ENVIRONMENTAL PROTECTION AGENCY

[EPA-HQ-OAR-2022-0016; FRL-10748-01-OMS]

Agency Information Collection Activities; Submission to the Office of Management and Budget for Review and Approval; Comment Request; NESHAP for Portland Cement Manufacturing Industry (Renewal)

AGENCY: Environmental Protection Agency (EPA).

ACTION: Notice.

SUMMARY: The Environmental Protection Agency (EPA) has submitted an information collection request (ICR), NESHAP for Portland Cement Manufacturing Industry (EPA ICR Number 1801.14, OMB Control Number 2060-0416) to the Office of Management and Budget (OMB) for review and approval in accordance with the Paperwork Reduction Act. This is a proposed extension of the ICR, which is currently approved through March 31, 2022. Public comments were previously requested via the Federal Register on July 22, 2022 during a 60-day comment period. This notice allows for an additional 30 days for public comments.

DATES: Comments may be submitted on or before March 27, 2023.

ADDRESSES: Submit your comments, referencing Docket ID Number EPA-HQ-OAR-2022-0016, to EPA online using www.regulations.gov (our preferred method), by email to a-and-r-Docket@epa.gov, or by mail to: EPA Docket Center, Environmental Protection Agency, Mail Code 28221T, 1200 Pennsylvania Ave. NW, Washington, DC 20460. EPA's policy is that all comments received will be included in the public docket without change including any personal information provided unless the comment includes profanity, threats, information claimed to be Confidential Business Information (CBI) or other information whose disclosure is restricted by statute.

Submit written comments and recommendations to OMB for the proposed information collection within 30 days of publication of this notice to www.reginfo.gov/public/do/PRAMain. Find this specific information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through January 31, 2023. An agency may not conduct or sponsor and a person is not required to respond to a collection of information unless it displays a currently valid OMB control number.

Public comments were previously requested via the Federal Register on July 22, 2022 during a 60-day comment period (87 FR 43843). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for the Portland Cement Manufacturing Industry (40 CFR part 63, subpart LLL) were proposed on March 24, 1998; promulgated on June 14, 1999; and most-recently amended on July 25, 2018, with a correction issued August 3, 2018. These regulations apply to existing facilities and new facilities that are either a major or area source, including each: kiln including alkali bypasses and inline coal mills; clinker cooler; raw mill; finish mill; raw material dryer; or open clinker storage pile. These regulations apply to each new and existing categories: raw material, clinker or finished product storage bin; conveying system transfer point including those associated with coal preparation used to convey coal from the mill to the kiln; and bagging and bulk loading and unloading system piles located at any portland cement manufacturing plant that is a major source. These regulations do not apply to cement kilns that burn hazardous waste and are subject to 40 CFR part 63, subpart EEE, or to cement kilns that burn nonhazardous solid waste and are subject to the requirements of 40 CFR part 60, subpart CCCC or 40 CFR part 60, subpart DDDD. New facilities include those that commenced construction or reconstruction after the date of proposal. This information is being collected to assure compliance with 40 CFR part 63, subpart LLL.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: Form 5900-610.

Respondents/affected entities: Owners and operators of portland cement manufacturing facilities.

Respondent's obligation to respond: Mandatory (40 CFR part 63, subpart LLL).

Estimated number of respondents: 91 (total).

Frequency of response: Annually, semiannually.

Total estimated burden: 27,800 hours (per year). Burden is defined at 5 CFR 1320.3(b).

Total estimated cost: $14,100,000 (per year), which includes $10,800,000 in annualized capital/startup and/or operation & maintenance costs.

Changes in the Estimates: The adjustment increase in burden from the most-recently approved ICR is due to more accurate estimates of existing and anticipated new sources. More accurate estimates were gathered using the GHG reporting database. The GHG reporting database estimates are also very similar to the portland cement manufacturing 2018 RTR, thus these estimates most accurately represent the industry landscape. Additionally, capital and operation and maintenance costs have increased due to the increase in sources from the most recently approved ICR.

Courtney Kerwin,
Director, Regulatory Support Division.

[FR Doc. 2023-03822 Filed 2-23-23; 8:45 am]

BILLING CODE 6560-50-P